DEPARTMENT OF ENERGY

Federal Energy Regulatory Commission

[Docket No. IC21-32-000]

Commission Information Collection Activities Ferc-917 and Ferc-918; Consolidated Comment Request; Extension

AGENCY: Federal Energy Regulatory Commission.

ACTION: Notice of information collections and request for comments.

SUMMARY: In compliance with the requirements of the Paperwork Reduction Act of 1995, the Federal Energy Regulatory Commission (Commission or FERC) is soliciting public comment on the currently approved information collections, FERC-917 (Electric Transmission Facilities) and FERC-918 (Standards for Business Practices and Communication Protocols for Public Utilities), both under OMB Control No. 1902-0233, which will be submitted to the Office of Management and Budget (OMB) for a review of the information collection requirements.

DATES: Comments on the collections of information are due September 10, 2021.

ADDRESSES: You may submit copies of your comments (identified by Docket No. IC21-32-000 and the specific FERC collection number (FERC-917 and/or FERC-918) by one of the following methods:

Electronic filing through http://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION:

Title: FERC-917, Electric Transmission Facilities and FERC-918, Standards for Business Practices and Communication Protocols for Public Utilities.

OMB Control No.: 1902-0233.

Type of Request: Three-year extension of the FERC-917 and FERC-918 information collection requirements with no changes to the reporting requirements.

Type of Respondents: Public utilities transmission providers.

Abstract: On February 17, 2007, the Commission issued Order No. 890 to address and remedy opportunities for undue discrimination under the pro forma Open Access Transmission Tariff (OATT) adopted in 1996 by Order No. 888.¹ Through Order No. 890, the Commission:

¹ Promoting Wholesale Competition Through Open Access Non-discriminatory Transmission Services by Public Utilities; Recovery of Stranded Costs by Public Utilities and Transmitting Utilities, Order No. 888, 61 FR 21540 (May 10, 1996), FERC Stats. & Regs. ¶ 31,036 (1996), order on reh'g, Order No. 888-A, 62 FR 12274 (Mar. 14, 1997), FERC Stats. & Regs. ¶ 31,048 (1997), order on reh'g, Order No. 888-B, 81 FERC ¶ 61,248 (1997), order on reh'g, Order No. 888-C, 82 FERC ¶ 61,046 (1998), aff'd in relevant part sub nom. Transmission Access Policy Study Group v. FERC, 225 F.3d 667 (D.C. Cir. 2000), aff'd sub nom. New York v. FERC, 535 U.S. 1 (2002).

1. Adopted pro forma OATT provisions necessary to keep imbalance charges closely related to incremental costs.

2. Increased nondiscriminatory access to the grid by requiring public utilities, working through the North American Electric Reliability Corporation (NERC), to develop consistent methodologies for available transfer capability (ATC) calculation and to publish those methodologies to increase transparency.

3. Required an open, transparent, and coordinated transmission planning process thereby increasing the ability of customers to access new generating resources and promote efficient utilization of transmission.

4. Gave the right to customers to request from transmission providers, studies addressing congestion and/or integration of new resource loads in areas of the transmission system where they have encountered transmission problems due to congestion or where they believe upgrades and other investments may be necessary to reduce congestion and to integrate new resources.

5. Required both the transmission provider's merchant function and network customers to include a statement with each application for network service or to designate a new network resource that attests, for each network resource identified, that the transmission customer owns or has committed to purchase the designated network resource and the designated network resource comports with the requirements for designated network resources. The network customer includes this attestation in the customer's comment section of the request when it confirms the request on the Open Access Same-Time Information System (OASIS).

6. Required with regard to capacity reassignment that: (a) All sales or assignments of capacity be conducted through or otherwise posted on the transmission provider's OASIS on or before the date the reassigned service commences; (b) assignees of transmission capacity execute a service agreement prior to the date on which the reassigned service commences; and (c) transmission providers aggregate and summarize in an electric quarterly report the data contained in these service agreements.

7. Adopted an operational penalties annual filing that provides information regarding the penalty revenue the transmission provider has received and distributed.

8. Required creditworthiness information to be included in a transmission provider's OATT. Attachment L must specify the qualitative and quantitative criteria that the transmission provider uses to determine the level of secured and unsecured credit required.

The Commission required a NERC/NAESB ² team to draft and review Order No. 890 reliability standards and business practices. The team was to solicit comment from each utility on developed standards and practices and utilities were to implement each, after Commission approval. Public utilities, working through NERC, were to revise reliability standards to require the exchange of data and coordination among transmission providers and, working through NAESB, were to develop complementary business practices. Required OASIS postings included:

² NAESB is the North American Energy Standards Board.

1. Explanations for changes in ATC values;

2. Capacity benefit margin (CBM) reevaluations and quarterly postings;

3. OASIS metrics and accepted/denied requests;

4. Planning redispatch offers and reliability redispatch data;

5. Curtailment data;

6. Planning and system impact studies;

7. Metrics for system impact studies; and

8. All rules.

Incorporating the Order No. 890 standards into the Commission's regulations benefits wholesale electric customers by streamlining utility business practices, transactional processes, and OASIS procedures, and by adopting a formal ongoing process for reviewing and upgrading the Commission's OASIS standards and other electric industry business practices. These practices and procedures benefit from the implementation of generic industry standards.

The Commission's Order No. 890 regulations can be found in 18 CFR 35.28 (pro forma tariff requirements), and 37.6 and 37.7 (OASIS requirements). 18 CFR 35.28(b) states: “Audit data must remain available for download on the OASIS for 90 days, except ATC/TTC postings that must remain available for download on the OASIS for 20 days. The audit data are to be retained and made available upon request for download for five years from the date when they are first posted in the same electronic form as used when they originally were posted on the OASIS.”

Estimate of Annual Burden: ³ The Commission estimates the annual public reporting burden for the information collections as follows. Please note, the zeroes for respondents and responses are based on having no filings of this type over the past four years. In addition, we estimate no filings during the next three years. The requirements remain in the regulations and are included as part of OMB Control Number 1902-0233.

³ Burden is defined as the total time, effort, or financial resources expended by persons to generate, maintain, retain, or disclose or provide information to or for a Federal agency. For further explanation of what is included in the information collection burden, refer to 5 CFR part 1320.

FERC-917 (Electric Transmission Facilities) and FERC-918 (Standards for Business Practices and Communication Protocols for Public Utilities)
| Number of respondents | Annual number of responses per respondent | Annual number of responses | Average annual burden hrs. & cost ⁴ per response ($) | Total average annual burden hours & total annual cost ⁵ ($) | Average annual cost perespondent ($)
| (1) | (2) | (1) * (2) = (3) | (4) | (3) * (4) = (5) | (5) ÷ (1) = (6)
18 CFR 35.28 (FERC-917)
Conforming tariff changes (Reporting) | 20 | 1 | 20 | 20 hrs.; $1,460 | 400 hrs.; $29,200 | $1,460
Revision of Imbalance Charges (Reporting) | 21 | 1 | 21 | 25 hrs.; $1,825 | 525 hrs.; $38,325 | 1,825
ATC revisions (Reporting) | 11 | 1 | 11 | 20 hrs.; $1,460 | 220 hrs.; $16,060 | 1,460
Planning (Attachment K) (Reporting) ⁶ | 162 | 1 | 162 | 100 hrs., $7,300 | 16,200 hrs., $1,182,600 | 7,300.00
Congestion studies (Reporting) | 162 | 1 | 162 | 300 hrs., $21,900 | 48,600 hrs., $3,547,800 | 21,900.00
Attestation of network resource commitment (Reporting) | 162 | 1 | 162 | 1 hr., $73 | 162 hrs., $11,826 | 73.00
Capacity reassignment (Reporting) | 162 | 1 | 162 | 100 hrs., $7,300 | 16,200 hrs., $1,182,600 | 7,300.00
Operational Penalty annual filing (Record Keeping) ⁷ | 162 | 1 | 162 | 10 hrs., $358.30 | 1,620 hrs., $58,044.60 | 358.30
Creditworthiness—include criteria in the tariff (Reporting) ⁸
FERC-917, Sub-Total of Record Keeping Requirements |  |  |  |  | 1,620 hrs., $58,044.60 |
FERC-917, Sub-Total of Reporting Requirements |  |  |  |  | 132,527 hrs., $6,008,411 |
FERC-917—Sub Total of Reporting and Recordkeeping Requirements |  |  |  |  | 134,147 hrs., $6,066,455.60 |
18 CFR 37.6 & 37.7 (FERC-918)
Implementation by each utility ⁹ (Reporting)
NERC/NAESB Team to develop (Reporting)
Review and comment by utility (Reporting)
Mandatory data exchanges (Reporting) | 162 | 1 | 162 | 80 hrs., $5,840 | 12,960 hrs., $946,080 | 5,840.00
Explanation of change of ATC values (Reporting) | 162 | 1 | 162 | 100 hrs., $7,300.00 | 16,200 hrs., $1,182,600 | 7,300.00
Reevaluate CBM and post quarterly (Record Keeping) | 162 | 1 | 162 | 20 hrs., $716.60 | 3,240 hrs., $116,089.20 | 716.60
Post OASIS metrics; requests accepted/denied (Reporting) | 162 | 1 | 162 | 90 hrs., $6,570 | 14,580 hrs., $1,064,340 | 6,570.00
Post planning redispatch offers and reliability redispatch data (Record Keeping) | 162 | 1 | 162 | 20 hrs., $716.60 | 3,240 hrs., $116,089.20 | 716.60
Post curtailment data (Reporting) | 162 | 1 | 162 | 1 hr., $73.00 | 162 hrs., $11,826 | 73.00
Post Planning and System Impact Studies (Reporting) | 162 | 1 | 162 | 5 hrs., $365.00 | 810 hrs., $59,130 | 365.00
Posting of metrics for System Impact Studies (Reporting) | 162 | 1 | 162 | 100 hrs., $7,300.00 | 16,200 hrs., $1,182,600 | 7,300.00
Post all rules to OASIS (Record Keeping) | 162 | 1 | 162 | 5 hrs., $179.15 | 810 hrs., $29,022.30 | 179.15
FERC-918, Sub-Total of Record Keeping Requirements |  |  |  |  | 7,290 hrs., $261,200.70 |
FERC-918 Sub-Total of Reporting Requirements |  |  |  |  | 60,912 hrs., $4,446,576 |
FERC-918—Sub Total of Reporting and Recordkeeping Requirements |  |  |  |  | 68,202 hrs., $4,707,776.70 |
Total FERC-917 and FERC-918 (Reporting and Recordkeeping Requirements) |  |  |  |  | 202,349 hrs., $10,774,232.30 |

Comments: Comments are invited on: (1) Whether the collections of information is necessary for the proper performance of the functions of the Commission, including whether the information will have practical utility; (2) the accuracy of the agency's estimate of the burden and cost of the collections of information, including the validity of the methodology and assumptions used; (3) ways to enhance the quality, utility and clarity of the information collections; and (4) ways to minimize the burden of the collections of information on those who are to respond, including the use of automated collection techniques or other forms of information technology.

⁴ The estimated hourly cost (salary plus benefits) provided in this section is based on the salary figures for March 2021 posted by the Bureau of Labor Statistics for the Utilities sector and benefits based on BLS report; issued June 17, 2021 Employer Costs for Employee Compensation Summary (available at https://www.bls.gov/news.release/ecec.nr0.htm). The hourly rates are displayed below:

Legal (Occupation Code: 23-0000): $142.25.

Management Analyst (Occupation Code: 13-1111): $68.39.

Office and Administrative Support (Occupation Code: 43-000): $44.47.

Electrical Engineer (Occupation Code: 17-2071): $72.15.

Information Security Analyst (Occupation Code: 15-1122): $73.57.

File Clerk (Occupation Code: 43-4071): $35.83.

The skill sets are assumed to contribute equally, so the hourly cost is an average [($142.25 + $68.39 + $44.47 + $72.15 + $73.57 + 35.83) ÷ 6 = $72.78]. The figure is rounded to $73.00 per hour.

⁵ In the last renewal of FERC-917/918 (ICR Ref. No. 201802-1902-002), included a $7,400,000 cost for off-site storage facility for record keeping. This cost was not related to burden hours, rather an annual estimate of the fees related to offsite storage. This cost has been removed as all recordkeeping is retained electronically per 18 CFR 37.7(b) states: “Audit data must remain available for download on the OASIS for 90 days, except ATC/TTC postings that must remain available for download on the OASIS for 20 days. The audit data are to be retained and made available upon request for download for five years from the date when they are first posted in the same electronic form as used when they originally were posted on the OASIS.”

⁶ The increase in the number of responses 132 (from OMB's currently approved inventory for FERC-917/918) to 162 is based on the increased number of companies subject to compliance and changes in the last few years as identified by the NERC registry.

⁷ While we are using the averaged hourly rate for the majority of the calculations, all recordkeeping tasks are solely completed by a file clerk at $35.83/hour.

⁸ As noted, above the table, the zeroes for respondents and responses are based on having no filings of this type over the past four years.

⁹ ATC-related standards include: Implementation by each utility (Reporting), NERC/NAESB Team to develop (Reporting), and Review and comment by utility (Reporting).

Dated: July 6, 2021.
Kimberly D. Bose,
Secretary.

[FR Doc. 2021-14715 Filed 7-9-21; 8:45 am]

BILLING CODE 6717-01-P